DEPARTMENT OF HOMELAND SECURITY

Coast Guard

33 CFR Part 117

[Docket No. USCG-2013-0219]

Drawbridge Operation Regulations; Atlantic Intracoastal Waterway, Albemarle and Chesapeake Canal, Chesapeake, VA

AGENCY: Coast Guard, DHS.

ACTION: Notice of deviation from drawbridge regulation.

SUMMARY: The Coast Guard has issued a temporary deviation from the operating schedule that governs the SR 170 Centerville Turnpike Bridge, across the Atlantic Intracoastal Waterway, mile 15.2, Albemarle and Chesapeake Canal, at Chesapeake, VA. The deviation is necessary to facilitate structural repairs to the superstructure of the SR 170 Centerville Turnpike Draw Bridge. This temporary deviation will allow the drawbridge to change the operating schedule on specific dates and times.

DATES: This deviation is effective from 9 a.m. on April 27, 2013 until 6 p.m. April 28, 2013.

ADDRESSES: The docket for this deviation, [USCG-2013-0219] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard, telephone (757) 398-6557, email James.L.Rousseau2@uscg.mil. If you have questions on viewing the docket, call Barbara Hairston, Program Manager, Docket Operations, (202) 366-9826.

SUPPLEMENTARY INFORMATION: The City of Chesapeake, who owns and operates this swing bridge, has requested a temporary deviation from the current operating regulations set out in 33 CFR 117.997(i), to facilitate structural repairs.

Under the regular operating schedule, the S.R. 170 Centerville Turnpike Bridge, Albemarle and Chesapeake Canal mile 15.2, at Chesapeake, VA shall open on signal at any time for commercial vessels carrying liquefied flammable gas or other hazardous materials. From 6:30 a.m. to 8:30 a.m. and from 4 p.m. to 6 p.m., Monday through Friday, except Federal holidays: Need not open for the passage of recreational or commercial vessels that do not qualify; Need not open for commercial cargo vessels, including tug, and tug with tows, unless 2 hours advance notice has been given to the Centerville Turnpike Bridge at (757) 547-3632; and from 8:30 a.m. to 4 p.m., Monday through Friday, except Federal holidays, the draw need only be opened on the hour and half hour. If any vessel is approaching the bridge and cannot reach the draw exactly on the hour or half hour, the draw tender may delay the opening ten minutes past the hour or half hour for the passage of the approaching vessel and any other vessels that are waiting to pass. It shall open on signal at all other times.

The Centerville Turnpike Bridge has vertical clearances in the open and closed position of unlimited and 4 feet, above mean high water, respectively.

Under this temporary deviation, the drawbridge will be operated under the following schedule to facilitate superstructure repairs, beginning at 9 a.m., on Saturday, April 27, 2013 and ending at 6 p.m., on Sunday, April 28, 2013, the drawbridge will open on signal every three hours on the following schedule: On Saturday, April 27th at 9 a.m., noon, 3 p.m., 6 p.m., 9 p.m., and on Sunday, April 28th at midnight, 3 a.m., 6 a.m., 9 a.m., noon, 3 p.m. and 6 p.m.; will open on signal for hazardous material vessels with a one-hour advance notice by calling (757-547-3632); and will open for an emergency as soon as safely possible. In case of inclement weather, the alternate dates will be rescheduled to weekend of May 4 and May 5, 2013.

The Atlantic Intracoastal Waterway caters to a variety of vessels from tug and barge traffic to recreational vessels traveling from Florida to Maine. The Coast Guard has carefully coordinated the restrictions with commercial and recreational waterway users. Additionally, the Coast Guard will inform users of the waterway through our Local and Broadcast Notice to Mariners of the closure periods for the bridge so that vessels can arrange their transits to minimize any impacts caused by the temporary deviation.

In accordance with 33 CFR 117.35(e), the drawbridge must return to its regular operating schedule immediately at the end of the effective period of this temporary deviation. This deviation from the operating regulations is authorized under 33 CFR 117.35.

Dated: April 9, 2013.
Waverly W. Gregory, Jr.,
Bridge Program Manager, Fifth Coast Guard District.

[FR Doc. 2013-09286 Filed 4-18-13; 8:45 am]

BILLING CODE 9110-04-P